DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards published in Title 30 of the Code of Federal Regulations.

DATES: All comments on the petitions must be received by the Office of Standards, Regulations and Variances on or before July 28, 2011.

ADDRESSES: You may submit your comments, identified by “docket number” on the subject line, by any of the following methods:

1. Electronic Mail: zzMSHA-comments@dol.gov. Include the docket number of the petition in the subject line of the message.

2. Facsimile: 1-202-693-9441.

3. Regular Mail: MSHA, Office of Standards, Regulations and Variances, 1100 Wilson Boulevard, Room 2350, Arlington, Virginia 22209-3939, Attention: Roslyn B. Fontaine, Acting Director, Office of Standards, Regulations and Variances.

4. Hand-Delivery or Courier: MSHA, Office of Standards, Regulations and Variances, 1100 Wilson Boulevard, Room 2350, Arlington, Virginia 22209-3939, Attention: Roslyn B. Fontaine, Acting Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2011-016-C.

Petitioner: Midland Trail Energy, LLC, 3301 Point Lick Drive, Charleston, West Virginia 25306.

Mine: Campbells Creek No. 4 Deep Mine, MSHA Mine I.D No. 46-08437, located in Kanawha County, West Virginia.

Regulation Affected: 30 CFR 77.214(b) (Refuse piles; general).

Modification Request: The petitioner requests a modification of the existing standard to permit existing mine openings to be covered with coarse coal refuse during construction of the subject facility. The petitioner states that: (1) There are four mine openings located within the proposed embankment. The openings are associated with the abandoned Campbells Creek No. 4 Deep Mine in the Stockton coal seam, operated by Point Mining, Inc. The mine dips in the direction of the mine openings. The openings have been sealed and backfilled and underdrains have been installed. The underdrains are 16 square feet in cross-sectional area and consist of rock cobbles with a D50 of 8 inches wrapped in filter fabric. The underdrain flow will discharge beyond the limit of the proposed embankment. Three of the mine openings contain dry seals and the fourth contains a wet seal with a 6-inch diameter PVC pipe. The wet weal is located in the lowest elevation opening. The petitioner asserts that the proposed alternative method will provide the same measure of protection for the miners as the standard.

Docket Number: M-2011-017-C.

Petitioner: Rosebud Mining Company, 301 Market Street, Kittanning, Pennsylvania 16201.

Mine: Starford Mine, MSHA Mine I.D No. 36-09637, located in Indiana County, Pennsylvania.

Regulation Affected: 30 CFR 75.503 (Permissible electric face equipment; maintenance) and 30 CFR 18.35(a)(2) (Portable trailing cables and cords).

Modification Request: The petitioner requests a modification of the existing standard to permit the use of MSHA approved 5 conductor 10 American Gauge Wire (AWG) (SO Cable) with a diameter of .77 with a tolerance of +/− 0.03. The petitioner states that: (1) The cable will hang on insulated hangers for the entire length at all times; (2) within 60 days after the proposed decision and order becomes final, proposed revisions of 30 CFR Part 48 will be submitted to the District Manager. The provisions will specify initial and refresher training regarding the terms and conditions stated in the proposed decision and order. The petitioner asserts that the proposed alternative method will at all times guarantee no less than the same measure of protection afforded by the standard.

Docket Number: M-2011-018-C.

Petitioner: Dominion Coal Corporation, P.O. Box 70, Vansant, Virginia 24656.

Mine: Mine No. 36, MSHA Mine I.D No. 44-06759, located in Buchanan County, Virginia.

Regulation Affected: 30 CFR 75.1700 (Oil and gas wells).

Modification Request: The petitioner requests a modification of the existing standard to permit mine through or near (whenever the safety barrier diameter is reduced to a distance less than the District Manger would approved pursuant to 30 CFR 75.1700) a plugged gas well penetrating the Jawbone Coal Seam and other mineable coal seams using continuous miners or conventional mining methods. The petitioner proposes to use the following procedures when plugging gas wells: (1) Prior to cleaning out and preparing gas wells, a diligent effort will be made to clean the borehole to the original total depth. If this depth cannot not be reached, the borehole will be cleaned out to a depth that would permit the placement of at least 200 feet of expanding cement below the base of the lowest mineable coalbed; (2) when cleaning the borehole, a diligent effort will be made to remove all the casing in the borehole. If it is not possible to remove all casing, the casing that remains will be perforated or ripped at intervals spaced close enough to permit expanding cement slurry to infiltrate the annulus between the casing and the borehole wall for a distance of at least 200 feet below the base of the lowest mineable coalbed; (3) if the cleaned-out borehole produces gas, a mechanical bridge plug will be placed in the borehole in a competent stratum at least 200 feet below the base of the lowest mineable coalbed, but above the top of the uppermost hydrocarbon-producing stratum. If a mechanical bridge plug cannot be set, an appropriately sized packer or a substantial brush plug may be used in place of the mechanical bridge plug; (4) a suite of logs will be made consisting of a caliper survey, directional deviation survey, and log(s) suitable for determining the top and bottom of the mineable coalbeds and potential hydrocarbon-producing strata and the location for the bridge plug; (5) if the uppermost hydrocarbon-producing stratum is within 200 feet of the base of the lowest mineable coalbed, properly placed mechanical bridge plugs or a suitable brush plug will be used to isolate the hydrocarbon-producing stratum from the expanding cement plug. A minimum of 200 feet of expanding cement will be placed below the lowest mineable coalbed; (6) the wellbore will be completely filled and circulated with a gel that inhibits any flow of gas, supports the walls of the borehole, and increases the density of the expanding cement. This gel will be pumped through open-end tubing and run to a point approximately 20 feet above the bottom of the cleaned-out area of the borehole or bridge plug. In addition, the petitioner proposes to use the following procedures when plugging gas wells to the surface: (1) A cement plug will be set in the wellbore by pumping an expanding cement slurry down the tubing to displace the gel and fill the borehole to the surface. (As an alternative, the cement slurry may be pumped down the tubing so that the borehole is filled with Portland cement or a Portland cement-fly ash mixture from a point approximately 100 feet above the top of the lowest mineable coalbed to the surface with an expanding cement plug extending from at least 200 feet below the lowest mineable coalbed to the bottom of the Portland cement.) There will be at least 200 feet of expanding cement below the base of the lowest mineable coalbed; (2) a small quantity of steel turnings, or other small magnetic particles, will be embedded in the top of the cement near the surface to serve as a permanent magnetic monument of the borehole. The petitioner also proposes to use the following procedures when the vent pipe method is used for plugging gas wells: (1) A 4½ inch or larger vent pipe will be run into the wellbore to a depth of 100 feet below the lowest mineable coalbed and swedged to a smaller diameter pipe, if desired, that will extend to a point approximately 20 feet above the bottom of the cleaned-out area of the borehole or bridge plug; (2) a cement plug will be set in the wellbore by pumping an expanding cement slurry, Portland cement, or a Portland cement-fly ash mixture down the tubing to displace the gel so that the borehole is filled with cement. The borehole and the vent pipe will be filled with expanding cement for a minimum of 200 feet below the base of the lowest mineable coalbed. The top of the expanding cement will extend upward to a point approximately 100 feet above the top of the highest mineable coalbed; (3) all fluid will be evacuated from the vent pipe to facilitate testing for gases. During the evacuation of fluid, the expanding cement will not be disturbed; (4) the top of the vent pipe will be protected to prevent liquids or solids from entering the wellbore, but permit ready access to the full internal diameter of the vent pipe when necessary. The petitioner further proposes to use the following procedures when plugging gas wells for subsequent use as degasification boreholes: (1) A cement plug will be set in the wellbore by pumping an expanding cement slurry down the tubing to displace the gel and provide at least 200 feet of expanding cement below the lowest mineable coalbed. The top of the expanding cement will extend upward to a point above the top of the coalbed being mined. This distance will be based on the average height of the roof strata breakage for the mine; (2) to facilitate methane drainage, degasification casing of suitable diameter, slotted or perforated throughout its lower 150 to 200 feet, will be set in the borehole to a point 10 to 30 feet above the top of the expanding cement; (3) the annulus between the degasification casing and the borehole wall will be cemented from a point immediately above the slots or perforations to the surface; (4) the degasification casing will be cleaned out for its total length; and (5) the top of the degasification casing will be fitted with wellhead equipped as required by the District Manager (DM). Such equipment may include check valves, shut-in valves, sampling ports, flame arrestor equipment, and security fencing. The petitioner proposes that: (1) Prior to reducing the safety barrier to a distance less than the DM would approve or proceed with an intent to cut through a plugged well, the petitioner will notify the DM or his designee. (2) Mining through a plugged well will be done on a shift approved by the DM or designee. The DM or designee and the miners' representative will be notified by the petitioner in sufficient time prior to the mining-through operation to provide an opportunity to have representative present. (3) When using continuous mining methods, drivage sights, not more that 50 feet from the well, will be installed at the last open crosscut near the place to be mined to ensure intersection of the well. (4) Firefighting equipment will include fire extinguishers, rock dust, and sufficient fire hose to reach the working face area of the mining-through when either the conventional or continuous mining method is used. The fire hose will be located in the last open crosscut of the entry or room. All fire hoses will be ready for operation during the mining-through. (5) Sufficient supplies of roof support and ventilation materials will be available and located at the last open crosscut, and an emergency plug and/or plugs will be available in the immediate area of the mine-through. (6) The quantity of air required by the approved mine ventilation plan, but not less than 9,000 cubic feet per minute (cfm) of air, will be used to ventilate the working face during the mining-through operation using continuous mining or conventional mining methods. (7) Equipment will be checked for permissibility and serviced on the shift prior to mining through the well. (8) The methane monitor(s) on the continuous mining machine, cutting machine and loading machine will be calibrated on the shift prior to mining through the well. (9) When mining is in progress, tests for methane will be made with a hand-held methane detector at least every 10 minutes from the time mining with the continuous mining machine is within 30 feet of the well until the well is intersected and immediately prior to mining-through. No individual will be allowed on the return side during the actual cutting-through process, until mining-through has been completed and the area has been examined and declared safe. (10) When using continuous or conventional mining methods, the working place will be free from accumulations of coal dust and coal spillages. Rock dust will be placed on the roof, rib and floor to within 20 feet of the face when mining through the well. (11) When the wellbore is intersected, all equipment will be deenergized and the place thoroughly examined and determined safe before mining is resumed. Any well casing will be removed and no open flame will be permitted in the area until adequate ventilation has been established around the wellbore. (12) After a well has been intersected and the working place determined safe, mining will continue inby the well at a sufficient distance to permit adequate ventilation around the area of the wellbore. (13) No person will be permitted in the area of the mining-through operation except those actually engaged in the operation, company personnel, MSHA personnel, and appropriate State agency personnel. (14) The mining-through operation will be under the direct supervision of a certified foreman. Instructions concerning the mining-through operation will be issued only by the certified foreman in charge. (15) A copy of the proposed decision and order will be maintained at the mine and be available to the miners. (16) The petitioner will file a plugging affidavit setting forth the persons who participated in the work, a description of the plugging work, and a certification by the petitioner that the well has been plugged as described. (17) Within 60 days after the proposed decision and order becomes final, proposed revisions for the approved Part 48 training plans will be submitted to the DM. The proposed revisions will include initial and refresher training regarding compliance with the terms and conditions in the proposed decision and order.

Docket Number: M-2011-003-M.

Petitioner: Resolution Copper Mining, LLC, 102 Magma Heights, P.O. Box 1944, Superior, Arizona 85273.

Mine: Resolution Mine, MSHA Mine I.D. No. 02-00152, located in Pinal County, Arizona.

Regulation Affected: 30 CFR 57.19076 (Maximum speeds for hoisting persons in buckets).

Modification Request: The petitioner requests a modification of the existing standard to permit the use of an enclosed capsule designed for the transport of personnel. This petition applies to a single conveyance currently used to transport workers in the petitioner's Number 10 Shaft. The 500 feet per minute standard would remain in effect for all “buckets” currently used on this project when and if they are used for man-hoisting. The principal reason for this request is that the personnel conveyance, conditions, and features of the equipment discussed provides at all times the equivalent protections of that contemplated by the standard and will reduce the time the shaft miners are exposed to the restricting ergonomic impact of shaft travel while standing in the restricted area of the enclosed conveyance. The petitioner states that: (1) The 28-foot- diameter Number 10 Shaft is in the development stage and is approximately 4,100 feet deep currently. The shaft is progressing at approximately 9.2 feet per day. The main hoist used for sinking a 15-foot-diameter double drum Nordberg hoist, capable of speeds up to 2,300 feet per minute. For mucking operations, traditional shaft buckets are used. Concrete is transported in design for purpose buckets for that application only. Over 95 percent of personnel transport is made using a single conveyance specifically designed for worker transport. The personnel conveyance travels in the No. 1 bucket compartment only (non-clutched side) and utilizes the same crosshead arrangements as the other buckets. MSHA has directed the petitioner and its contractor, Cementation USA, to apply the 500 feet per minute requirement to the man-riding conveyance as well as the buckets when transporting personnel. This petition seeks to have the man-conveyance travel at 1,200 feet per minute in the unobstructed open shaft below the Never Sweat Level. For this request, the petitioner defines unobstructed shaft as the normal open shaft, free of doors, dump stations, pumps, etc. The minimum distance between the conveyance and any shaft wall attachment in this area is 3 feet 6 inches; (2) the 500 feet per minute requirement would continue to apply to those areas of the shaft where shaft furnishings are closer than the open shaft clearance. The doors at the Never Sweat Level and the dump station at the 800-foot level fall into this category. In no case are any clearances less than the 16-inch minimum considered to be prudent engineering practice for shaft sinking; (3) all buckets and clearances are stabilized in their horizontal position during hoisting by a crosshead attached directly above the bucket or conveyance. The crosshead travels on rope guides fixed at the head-frame and connected to a 168-ton stabilized work stage at the shaft bottom. This results in centralizing the conveyance position in the designed travel way with little or not sideways movement regardless of the speed. The attachment to the crosshead is monitored by a sensor linked to the hoist controls. As the conveyance or bucket travels, multiple sensors monitor position in the shaft as a secondary check for the master hoist Programmed Logic Controller (PLC). Any variance from minimums or conflicting readings will stop the hoist in a controlled manner until the fault is checked and corrected. The resulting redundant systems provide that correct shaft position is maintained at all times. These engineered safeguards combined with minimum designed clearances provide for a stable, upright movement free of any obstruction in the shaft at any designed speed; (4) deceleration tests during stopping conditions have been conducted and fall within MSHA standards for worker travel at 1,200 feet per minute with the hoist. The hoist's normal speed approach profile currently limits the hoist to 200 feet per minute on approach to the work platform and limits the speed to 150 feet per minute below the top deck of the work platform to the bottom of the shaft. This hoist controller would also be set so that the speed of upward man travel would be reduced to 500 feet per minute on approach to the safety door, at Never Sweat Level, from below; (5) the 1,200 feet per minute speed will apply while all workers are riding in the lower, fully enclosed and latched compartment of the conveyance. If any person must ride above on the observation deck for shaft inspection, the speed will be reduced to 500 feet per minute. Additionally, full fall protection, including approved body harnesses, will be employed in the inspection process; and (6) with the conditions in place as proposed here the safety of worker travel will be maintained at the same level or greater as that intended by the standard. In addition, traveling at a speed exceeding the 500 feet per minute will minimize discomfort of the miners traveling in the man-conveyance by making the descent and ascent quicker.

Dated: June 22, 2011.
Patricia W. Silvey,
Certifying Officer.

[FR Doc. 2011-16082 Filed 6-27-11; 8:45 am]

BILLING CODE 4510-43-P